DEPARTMENT OF HEALTH AND HUMAN SERVICES

National Committee on Vital and Health Statistics: Meeting; Privacy, Security & Confidentiality Subcommittee

Pursuant to the Federal Advisory Committee Act, the Department of Health and Human Services (HHS) announces the following advisory committee meeting.

Name: National Committee on Vital and Health Statistics (NCVHS) Subcommittee on Privacy, Confidentiality & Security.

Time And Date: May 6, 2015 9:00 a.m.-5:00 p.m. EST, May 7, 2015 9:00 a.m.-12:00 p.m. EST.

Place: U.S. Department of Health and Human Services, Centers for Disease Control and Prevention, National Center for Health Statistics, 3311 Toledo Road, Auditorium B and C, Hyattsville, Maryland 20782, (301) 458-4125.

Status: Open.

Purpose: Section 1179 of the Health Insurance Portability and Accountability Act (HIPAA) creates an exemption from compliance with HIPAA and accompanying rules when a financial institution is “engaged in authorizing, processing, clearing, settling, billing, transferring or collecting payments.” The purpose of this meeting is to learn how banking and other financial service businesses are using personal health data as their services evolve in support of the health industry.

The objectives of this hearing are as follows:

Increase awareness of current and anticipated financial services involving personal health data, understand section 1179 in light of these practices, and identify areas where outreach, education, technical assistance, or guidance may be useful.

Contact Person For More Information: Debbie M. Jackson, Acting Executive Secretary, NCVHS, National Center for Health Statistics, Centers for Disease Control and Prevention, 3311 Toledo Road, Room 2339, Hyattsville, Maryland 20782, telephone (301) 458-4614 or Maya Bernstein, ASPE/OSDP, Room 436E, Department of Health and Human Services, 200 Independence Avenue SW., Washington, DC 20201, Phone: (202) 690-5896. Program information as well as summaries of meetings and a roster of committee members are available on the NCVHS home page of the HHS Web site: http://www.ncvhs.hhs.gov/, where further information including an agenda will be posted when available.

Should you require reasonable accommodation, please contact the CDC Office of Equal Employment Opportunity on 770-488-3204 as soon as possible.

Dated: April 15, 2015.
James Scanlon,
Deputy Assistant Secretary for Planning and Evaluation, Science and Data Policy, Office of the Assistant Secretary for Planning and Evaluation .

[FR Doc. 2015-09187 Filed 4-20-15; 8:45 am]

BILLING CODE 4151-05-P